DEPARTMENT OF ENERGY

Western Area Power Administration

2025 Resource Pool—Loveland Area Projects, Final Power Allocation

AGENCY: Western Area Power Administration, DOE.

ACTION: Notice of final power allocation.

SUMMARY: Western Area Power Administration (WAPA), a Federal Power Marketing Administration of the Department of Energy (DOE), announces its Loveland Area Projects (LAP) 2025 Resource Pool final power allocation. WAPA developed the final power allocation under the requirements of subpart C-Power Marketing Initiative of the Energy Planning and Management Program (Program) Final Rule and WAPA's LAP 2025 Power Marketing Initiative (2025 PMI), as published in the Federal Register on December 30, 2013. The final power allocations are established prior to the contractual phase of the 2025 Resource Pool process. Firm electric service contracts negotiated between WAPA and eligible allottees will permit delivery of hydroelectric power beginning October 1, 2024, through September 30, 2054.

DATES: The LAP 2025 Resource Pool final power allocation will become effective September 19, 2022, and will remain in effect through September 30, 2054.

ADDRESSES: Information about the LAP 2025 Resource Pool allocation procedures, including correspondence and supporting documents, is available for public inspection and copying at the Rocky Mountain Region office, Western Area Power Administration, 5555 East Crossroads Boulevard, Loveland, CO.

SUPPLEMENTARY INFORMATION: The 2025 PMI, as published in the Federal Register December 30, 2013 (78 FR 79444), provides the basis for marketing the LAP long-term firm hydroelectric resource beginning October 1, 2024, through September 30, 2054. The 2025 PMI established three resource pools available for reallocation to eligible new preference entities. Reallocations will occur at the beginning of the October 1, 2024, contract term and again every 10 years thereafter on October 1, 2034, and October 1, 2044. Each resource pool contains up to one percent of the marketable resource under contract at that time.

WAPA notified the public of the 2025 Resource Pool allocation procedures, including the General Eligibility Criteria, and called for applications in the Federal Register on September 20, 2021 (86 FR 52145). It then published its 2025 Resource Pool, Loveland Area Projects, Proposed Power Allocation and initiated a public comment period in the Federal Register (87 FR 24555, April 26, 2022). A public information and comment forum on the proposed power allocation was held at 1:30 p.m., MDT, on May 23, 2022. Public comments were due to WAPA by 4:00 p.m., MDT, on June 10, 2022. There were no comments received during the public comment period. WAPA is now finalizing the proposed power allocations with publication of this notice in the Federal Register.

2025 Resource Pool Resources

WAPA will allocate up to one percent of the LAP long-term firm hydroelectric resource available as of October 1, 2024. The amount of the resource that will become available on October 1, 2024, is approximately 6.9 megawatts (MW) for the summer season and 6.1 MW for the winter season. The 2025 Resource Pool will be created by reducing existing customers' firm electric service allocations by up to one percent.

Final Power Allocation

In response to WAPA's allocation procedures and call for applications (86 FR 52145), WAPA received 13 applications for the 2025 Resource Pool, by the due date of November 15, 2021. Of the applications received by the due date, WAPA determined that one applicant did not meet the 2025 Resource Pool General Eligibility Criteria and was therefore ineligible to receive an allocation. After the application due date, WAPA learned that the Town of Basin, Wyoming (Basin), faxed its Applicant Profile Data (APD) form application to WAPA on November 10, 2021. Basin's APD form was not successfully received by WAPA, and WAPA was unaware that Basin submitted an application. Basin resubmitted its APD form to WAPA on May 5, 2022. WAPA reviewed Basin's APD form but determined that Basin did not meet the 2025 Resource Pool General Eligibility Criteria and was therefore ineligible to receive an allocation.

The resource pool will be allocated proportionately by season to 12 qualified allottees based on average seasonal load for calendar year 2020. The final power allocations for the 12 qualified allottees, shown in the table below, are based on the LAP marketable resource currently available and are subject to the minimum allocation (100 kilowatts) and maximum allocation (5,000 kilowatts) criteria. If the LAP marketable resource is adjusted in the future, all allocations may be adjusted accordingly.

Allottees | Proposed LAP 2025 resource pool power allocation: Summer kilowatt-hours | Proposed LAP 2025 resource pool power allocation: Winter kilowatt-hours | Proposed LAP 2025 resource pool power allocation: Summer kilowatts | Proposed LAP 2025 resource pool power allocation: Winter kilowatts
City of Alma, KS | 1,641,046 | 1,174,939 | 1,003 | 781
City of Blue Mound, KS | 219,242 | 176,015 | 134 | 117
Buckley Space Force Base, CO | 4,198,329 | 3,598,531 | 2,566 | 2,392
City of Elwood, KS | 921,145 | 648,398 | 563 | 431
City of Luray, KS | 214,334 | 156,458 | 131 | 104
City of Montezuma, KS | 1,353,086 | 1,036,534 | 827 | 689
City of Morrill, KS | 163,614 | 150,440 | 100 | 100
Village of Paxton, NE | 595,554 | 570,169 | 364 | 379
City of Prescott, KS | 163,614 | 150,440 | 100 | 100
City of Robinson, KS | 163,614 | 150,440 | 100 | 100
Village of Trenton, NE | 571,012 | 532,559 | 349 | 354
City of Wathena, KS | 1,097,848 | 761,228 | 671 | 506
Total 2025 Resource Pool | 11,302,438 | 9,106,151 | 6,908 | 6,053

All 12 qualified allottees reside beyond the boundary of WAPA's LAP transmission system. As a result, delivery of the allocation will require each allottee to obtain additional transmission arrangements, acceptable to WAPA, for delivery of the proposed power allocation to the allottee's point of delivery. By June 1, 2024, each allottee must have firm delivery arrangements in place to be effective October 1, 2024, unless otherwise agreed to in writing by WAPA. WAPA must receive a letter of commitment from each allottee's serving utility or transmission provider by June 1, 2024, confirming that the allottee has secured the necessary transmission arrangements. If WAPA does not receive a commitment letter by June 1, 2024, unless otherwise agreed in writing by WAPA, WAPA will withdraw its offer of a power allocation.

Any long-term LAP firm electric service contract offered by WAPA to an allottee shall be executed by the allottee by December 31, 2022, unless otherwise agreed to in writing by WAPA. Allottees which are a member of a member-based organization and elect to temporarily assign their allocation to the member-based organization, will be required to execute WAPA's assignment agreement, in lieu of a LAP long-term firm electric service contract, by December 31, 2022, unless otherwise agreed to in writing by WAPA.

Regulatory Procedure Requirements

Environmental Compliance

WAPA has determined this action fits within the following categorical exclusion listed in appendix B to subpart D of 10 CFR part 1021.B4.1 (Contracts, policies, and marketing and allocation plans for electric power). Categorically excluded projects and activities do not require preparation of either an environmental impact statement or an environmental assessment.¹

¹ The determination was done in compliance with NEPA (42 U.S.C. 4321-4347); the Council on Environmental Quality Regulations for implementing NEPA (40 CFR parts 1500-1508); and DOE NEPA Implementing Procedures and Guidelines (10 CFR part 1021).

Specifically, WAPA has determined this rulemaking is consistent with activities identified in part B4, Categorical Exclusions Applicable to Specific Agency Actions (see 10 CFR part 1021, appendix B to subpart D, part B4). A copy of the categorical exclusion determination is available on WAPA-RMR's website at: https://www.wapa.gov/regions/RM/environment/Pages/CX2021.aspx. Look for the file entitled “2021-091 LAP 2025 Resource Pool CX.”

Determination Under Executive Order 12866

WAPA has an exemption from centralized regulatory review under Executive Order 12866; accordingly, no clearance of this notice by the Office of Management and Budget is required.

Signing Authority

This document of the Department of Energy was signed on August 5, 2022, by Tracey A. LeBeau, Administrator, Western Area Power Administration, pursuant to delegated authority from the Secretary of Energy. That document, with the original signature and date, is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on August 12, 2022.
Treena V. Garrett,
Federal Register Liaison Officer, U.S. Department of Energy.

[FR Doc. 2022-17722 Filed 8-17-22; 8:45 am]

BILLING CODE 6450-01-P